DEPARTMENT OF HOMELAND SECURITY

Coast Guard

33 CFR Part 117

[Docket No. USCG-2016-0427]

Drawbridge Operation Regulation; Narrow Bay, Suffolk County, NY

AGENCY: Coast Guard, DHS.

ACTION: Notice of deviation from drawbridge regulation.

SUMMARY: The Coast Guard has issued a temporary deviation from the operating schedule that governs the Smith Point Bridge, mile 6.1, across Narrow Bay, at Suffolk County, New York. This temporary deviation is necessary to facility public safety during a public event, the annual 5K Run for Literacy.

DATES: This deviation is effective on September 10, 2016 between 9:00 a.m. and 10 a.m.

ADDRESSES: The docket for this deviation, [USCG-2016-0427] is available at http://www.regulations.gov. Type the docket number in the “SEARCH” box and click “SEARCH”. Click on Open Docket Folder on the line associated with this deviation.

FOR FURTHER INFORMATION CONTACT: If you have questions on this temporary deviation, call or email Ms. Judy K. Leung-Yee, Project Officer, First Coast Guard District, telephone (212) 514-4330, email judy.k.leung-yee@uscg.mil.

SUPPLEMENTARY INFORMATION: Community Family Literacy Project, Inc. requested and Suffolk County Department of Public Works, the bridge owner concurred with this temporary deviation from the normal operating schedule to facilitate a public event, the annual 5K Run for Literacy.

The Smith Point Bridge, mile 6.1, across Narrow Bay has a vertical clearance in the closed position of 18 feet at mean high water and 19 feet at mean low water. The existing bridge operating regulations are found at 33 CFR 117.799(d).

Narrow Bay is transited by seasonal recreational vessels of various sizes.

Under this temporary deviation, the Smith Point Bridges may remain in the closed position on Saturday September 10, 2016 between 9:00 a.m. and 10 a.m.

Vessels able to pass under the bridge in the closed position may do so at anytime. The bridges will not be able to open for emergencies and there are no immediate alternate routes for vessels to pass.

The Coast Guard will also inform the users of the waterways through our Local and Broadcast Notices to Mariners of the change in operating schedule for the bridge so that vessels can arrange their transits to minimize any impact caused by the temporary deviation.

In accordance with 33 CFR 117.35(e), the drawbridge must return to its regular operating schedule immediately at the end of the effective period of this temporary deviation. This deviation from the operating regulations is authorized under 33 CFR 117.35.

Dated: June 3, 2016.
C.J. Bisignano,
Supervisory Bridge Management Specialist, First Coast Guard District.

[FR Doc. 2016-13664 Filed 6-8-16; 8:45 am]

BILLING CODE 9110-04-P